DEPARTMENT OF THE INTERIOR

National Park Service

Tuolumne Wild and Scenic River Comprehensive Management Plan and Tuolumne Meadows Concept Plan, Yosemite National Park; Madera, Mariposa, Mono and Tuolumne Counties, California; Notice of Intent To Prepare an Environmental Impact Statement

Summary: Pursuant to section 102(2)(C) of the National Environmental Policy Act of 1969 and the Wild and Scenic Rivers Act (Pub. L. 90-542), the National Park Service is initiating a public scoping process as necessary to obtain information which will aid in the preparation of the Tuolumne Wild and Scenic River Comprehensive Management Plan and Tuolumne Meadows Concept Plan for Yosemite National Park, California. The purpose of this scoping phase is to elicit early public comments regarding issues and concerns to be addressed in preparing an Environmental Impact Statement (EIS), including a suitable range of alternatives, the nature and extent of potential environmental impacts, and appropriate mitigation strategies.

During the ensuing conservation planning and environmental impact analysis process, the National Park Service (NPS) will develop a range of management alternatives that is intended to: (1) Provide broad guidance for the protection and enhancement of the river's Outstandingly Remarkable Values (ORVs); (2) address river boundaries and classifications pursuant to the Wild and Scenic Rivers Act; (3) define a user capacity program for the river which includes the Visitor Experience and Resource Protection framework; (4) prescribe management zones for the river corridor (i.e., desired conditions); and (5) establish the section 7 determination process. The plan/EIS will also make technical corrections to the description and mapping of the Dana Fork headwaters, and clarify the language for definition of river segments below Hetch Hetchy; these corrections will be in accordance with the directives of the Wild and Scenic Rivers. In addition, the Tuolumne Meadows Concept Plan will address such factors as day use parking and transportation, water collection and wastewater treatment facility needs, optimal spatial organization of park and concession facilities, and options for enhancing visitor information services. In some cases a site-specific environmental impacts analysis may be included to facilitate possible future relocation, rehabilitation, addition or removal of facilities and opportunities for site restoration.

In cooperation with Mariposa, Madera, Tuolumne, Mono, and Inyo Counties, attention will also be given to the potential socio-economic impacts on these counties. Additionally, in consultation with culturally-associated American Indians, attention will also be given to the Traditional Cultural Resources to which these groups attach significance. Alternatives to be considered will include a No Action and an undetermined number of action alternatives; among these an “environmentally preferred” alternative will be identified.

Background

In 1979, a Tuolumne Wild and Scenic River Study and Environmental Impact Statement was prepared which recommended designation of the river and specified “wild” and “scenic” classifications. In 1984, 83 miles of the Tuolumne River were designated Wild and Scenic under Public Law 94-425; a total of 54 miles of the Tuolumne Wild and Scenic River are under NPS jurisdiction in Yosemite National Park. In a 1986 Federal Register notice and related announcements, the NPS established classifications of the river segments, which include: The Lyell Fork, a wild segment originating at the headwaters from Mt. Lyell; the Dana Fork, a scenic segment originating from the headwaters at Mt. Dana; a scenic segment through Tuolumne Meadows; a wild segment from the Grand Canyon of the Tuolumne River to the inlet of the Hetch Hetchy Reservoir; and a scenic segment from one mile west of O'Shaughnessey Dam; and the remaining 5-mile wild segment through Poopenaut Valley to the park boundary. Approximately 13 miles of the Hetch Hetchy Reservoir were not included in the 1984 Wild and Scenic River designation and thus are not included within the Tuolumne Wild and Scenic River corridor. Interim boundaries (¼ mile on each side of the river) were established in the 1979 Tuolumne Wild and Scenic River Study.

Scoping and Public Meetings

The participation of interested individuals and affected organizations will be a key element of the current Tuolumne River/Meadows conservation planning and environmental analysis process. Concurrently, tribal, federal, state, and local government representatives will be consulted. All written comments received during the scoping period, as well as oral commentary at all associated public meetings, will aid in the preparation of the EIS for the Tuolumne Wild and Scenic River Comprehensive Management Plan and Tuolumne Meadows Concept Plan (and preserved in the project's administrative record). Suggestions regarding issues to be addressed and information relevant to determining the scope of the current planning and analysis process are being sought from all interested individuals and groups. Public scoping meetings will be held in June, July, and August in Yosemite Valley, Tuolumne Meadows, Groveland, Sonora, Modesto, Sacramento, San Francisco, Mariposa, Oakhurst, Lee Vining, and Bishop. Dates, times, specific locations, and additional information will be released via regional and local news media, through the park's regular Planning Update newsletters (direct mailed and e-mailed), and posted on the part Web site (see below).

The scope of issues identified thus far to address in the Tuolumne Wild and Scenic River Comprehensive Management Plan include the identification of ORVs, determination of desired conditions and management prescriptions within the river corridor, establishment of detailed boundaries, development of a user capacity management program, and deciding upon a Section 7 determination process. The Tuolumne Meadows Concept Plan tentative issues include the possible relocation, rehabilitation, addition and/or removal of facilities as well as a comprehensive transportation review related to day use and parking. The Hetch Hetchy Reservoir and O'Shaughnessy Dam are under the jurisdiction of the San Francisco Public Utilities Commission, and neither the reservoir nor the dam are part of the designated Wild and Scenic River corridor. Thus the dam and reservoir will not be subject to the management elements evaluated through this planning effort.

All scoping comments received will be incorporated into a comment database and duly considered during the preparation of the draft plan\EIS. Written comments should be addressed to the Superintendent, Attn: Tuolumne Planning, Yosemite National Park, P.O. Box 577, Yosemite National Park, California 95389, or faxed to (209) 379-1294, and must be postmarked or faxed no later than 60 days from the publication date of this notice (or if sent via e-mail, transmitted by that date to Yose_Planning@nps.gov)—immediately upon confirmation of this date an announcement of the closing date for the scoping period will be posted on the park Web site http://www.nps.gov/yose/planning, and announced via press releases distributed to local and regional media. Please note that names and addresses of all respondents will become part of the public record. It is the practice of the NPS to make all comments, including names and addresses of respondents who provide that information, available for public review following the conclusion of the EIS process. Individuals may request that the NPS withhold their name and\or address from public disclosure. If you wish to do so, you must state this prominently at the beginning of your comments. Those respondents who use the Web site can make such a request by checking the box “keep my information private”. NPS will honor all such requests to the extent allowable by law, but you should be aware that NPS may still be required to disclose your name and address pursuant to the Freedom of Information Act.

Decision Process

Announcements of future public involvement opportunities, as well as availability of the draft Tuolumne River Plan\Tuolumne Meadows Concept Plan EIS for public review, will be accomplished via regional news media, direct mailings, and the Federal Register. At this time, release of the draft plan\EIS for review and comment is expected to occur during summer, 2007. After due consideration of all comments received on the draft EIS, a final plan\EIS will be prepared and its availability similarly announced. As this is a delegated EIS, the official responsible for the final decision regarding the forthcoming plan is the Regional Director, pacific West Region, National Park Service; subsequently the official responsible for implementation of the approved plan is the Superintendent, Yosemite National Park.

Dated: July 9, 2006.
George J. Turnbull,
Acting Regional Director, Pacific West Region.

[FR Doc. 06-6073 Filed 7-7-06; 8:45 am]

BILLING CODE 4312-FY-M